DEPARTMENT OF TRANSPORTATION

Federal Aviation Administration

14 CFR Part 39

[Docket No. FAA-2006-25205; Directorate Identifier 2006-NM-071-AD]

RIN 2120-AA64

Airworthiness Directives; Boeing Model 767-200 and -300 Series Airplanes

AGENCY: Federal Aviation Administration (FAA), Department of Transportation (DOT).

ACTION: Notice of proposed rulemaking (NPRM).

SUMMARY: The FAA proposes to supersede an existing airworthiness directive (AD) that applies to certain Boeing Model 767-200, -300, and -300F series airplanes. The existing AD currently requires an inspection of visually accessible areas for indications of overheating of the heater tape attached to the potable water fill and drain lines in the forward and aft cargo compartments, exposed foam insulation or missing or damaged protective tape around the potable water fill and drain lines, and debris or contaminants on or near the potable water fill and drain lines. That AD also requires corrective action, as necessary. This proposed AD would require repetitive inspections of the forward and aft cargo compartments, as applicable, for discrepancies of the potable water supply and gray water drain lines; and applicable corrective actions if necessary. This proposed AD also would require replacing the heater tapes on the potable water supply and gray water drain lines of the forward and aft cargo compartments, as applicable, with new ribbon heaters, which would end the repetitive inspections. This proposed AD results from a report of a fire in the aft cargo compartment. We are proposing this AD to prevent overheating of the heater tape on potable water fill and drain lines, which may ignite accumulated debris or contaminants on or near the potable water fill and drain lines, resulting in a fire in the airplane.

DATES: We must receive comments on this proposed AD by August 14, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, P.O. Box 3707, Seattle, Washington 98124-2207, for service information identified in this proposed AD.

FOR FURTHER INFORMATION CONTACT: Donald Eiford, Aerospace Engineer, Cabin Safety and Environmental Systems Branch, ANM-150S, FAA, Seattle Aircraft Certification Office, 1601 Lind Avenue, SW., Renton, Washington 98055-4056; telephone (425) 917-6465; fax (425) 917-6590.

SUPPLEMENTARY INFORMATION:

Comments Invited

We invite you to submit any relevant written data, views, or arguments regarding this proposed AD. Send your comments to an address listed in the ADDRESSES section. Include the docket number “Docket No. FAA-2006-25205; Directorate Identifier 2006-NM-071-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On May 29, 2002, we issued AD 2002-11-11, amendment 39-12772 (67 FR 39265, June 7, 2002), for certain Boeing Model 767-200, -300, and -300F series airplanes. That AD requires an inspection of visually accessible areas for indications of overheating of the heater tape attached to the potable water fill and drain lines in the forward and aft cargo compartments, exposed foam insulation or missing or damaged protective tape around the potable water fill and drain lines, and debris or contaminants on or near the potable water fill and drain lines. That AD also requires correction action, as necessary. That AD resulted from a report of a fire in the aft cargo compartment. We issued that AD to prevent overheating of the heater tape on potable water fill and drain lines, which may ignite accumulated debris or contaminants on or near the potable water fill and drain lines, resulting in a fire in the airplane.

Actions Since Existing AD Was Issued

In the preamble to AD 2002-11-11, we indicated that the actions required by that AD were considered “interim action,” and that further rulemaking action was being considered. We now have determined that further rulemaking action is indeed necessary, and this proposed AD follows from that determination.

Relevant Service Information

We have reviewed Boeing Service Bulletin 767-30A0038, Revision 2, dated February 23, 2006. Revision 2 of the service bulletin describes procedures for repetitive general visual inspections of the forward and aft cargo compartments, as applicable, for discrepancies of the potable water supply and gray water drain lines; and applicable corrective actions if necessary. The discrepancies include: foreign object debris (FOD), contamination, heat damage, exposed foam insulation, and missing or damaged protective tape of all heater tape. The applicable corrective actions include:

• Removing FOD or contamination;

• Replacing damaged heater tape with new heater tape;

• Disconnecting damaged heater tape;

• Applying a continuous wrap of external protective tape to cover the foam insulation; and

• Fully covering the heater tape with external protective tape.

In addition, the service bulletin describes procedures for replacing the heater tapes on the potable water supply and gray water drain lines of the forward and aft cargo compartments, as applicable, with new Adel Wiggins ribbon heaters, which ends the need for the repetitive inspections.

Accomplishing the actions specified in the service information is intended to adequately address the unsafe condition.

FAA's Determination and Requirements of the Proposed AD

We have evaluated all pertinent information and identified an unsafe condition that is likely to develop on other airplanes of the same type design. For this reason, we are proposing this AD, which would supersede AD 2002-11-11 to require accomplishing the actions specified in the service bulletin described previously.

Change to Existing AD

AD 2002-11-11 affects Model 767-200, -300, and -300F series airplanes with non-fully-enclosed cargo floors in the lower cargo areas. Since the issuance of that AD, Boeing has informed us that the new, improved heater tapes are being installed on airplanes, line numbers 919 and higher, in production. Boeing Service Bulletin 767-30A0038, Revision 2, specifies the current affected airplanes and operators. In addition, we have determined that Model 767-300F series airplanes are not subject to the identified unsafe condition and were inadvertently included in the applicability of AD 2002-11-11. Therefore, the applicability of this proposed AD limits the applicability of the existing AD to airplanes identified in Revision 2 of Boeing Service Bulletin 767-30A0038.

Costs of Compliance

There are about 455 airplanes of the affected design in the worldwide fleet. The following table provides the estimated costs for U.S. operators to comply with this proposed AD.

Estimated Costs
Action | Work hours ¹ | Average labor rate per hour | Parts | Cost per airplane ¹ | Number of U.S.-registered airplanes | Fleet cost ²
Inspections | 2 or 3 | $80 | None | $160 or $240, per inspection cycle | 83 | Between $13,280 and $19,920, per inspection cycle.
Replacement (Ends Inspections) | Between 1 and 3 | 80 | $8,000 | Between $8,080 and $8,240 | 83 | Between $670,640 and $683,920.
¹ Depending on airplane configuration.
² Depending on fleet configuration.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12772 (67 FR 39265, June 7, 2002) and adding the following new airworthiness directive (AD):

Boeing: Docket No. FAA-2006-25205; Directorate Identifier 2006-NM-071-AD.

Comments Due Date

(a) The FAA must receive comments on this AD action by August 14, 2006.

Affected ADs

(b) This AD supersedes AD 2002-11-11.

Applicability

(c) This AD applies to Boeing Model 767-200 and -300 series airplanes, certificated in any category, as identified in Boeing Service Bulletin 767-30A0038, Revision 2, dated February 23, 2006.

Note 1: For the purposes of this AD: An open cargo floor configuration, as identified in Boeing Service Bulletin 767-30A0038, is a floor without panels installed between all roller trays in the cargo compartment. A closed cargo floor configuration, as identified in Boeing Service Bulletin 767-30A0038, is a floor with panels installed between all roller trays in the cargo compartment.

Unsafe Condition

(d) This AD results from a report of a fire in the aft cargo compartment. We are issuing this AD to prevent overheating of the heater tape on potable water fill and drain lines, which may ignite accumulated debris or contaminants on or near the potable water fill and drain lines, resulting in a fire in the airplane.

Compliance

(e) You are responsible for having the actions required by this AD performed within the compliance times specified, unless the actions have already been done.

Repetitive Inspections

(f) Within 18 months since the date of issuance of the original standard airworthiness certificate or the date of issuance of the original export certificate of airworthiness, or within 90 days after the effective date of this AD, whichever is later: Do the actions in Table 1 of this AD in accordance with the Accomplishment Instructions of Boeing Service Bulletin 767-30A0038, Revision 2, dated February 23, 2006.

Table 1.—Inspections
Do a general visual inspection of the forward and aft cargo compartments, as applicable, for— | And, repeat at intervals not to exceed— | Until the replacement required by—
(1) Foreign object debris (FOD) or contamination on, near, or around the potable water supply and gray water drain lines | 600 flight hours | Paragraph (h) of this AD is done.
(2) Indications of heat damage, exposed foam insulation, or missing or damaged protective tape of all heater tape on the potable water supply and gray water drain lines | 1,800 flight hours | Paragraph (h) of this AD is done.

Corrective Actions

(g) If any discrepancy identified in Table 1 of this AD is found during any general visual inspection required by either paragraph, before further flight, do the applicable corrective action by accomplishing all the actions in accordance with Accomplishment Instructions of Boeing Service Bulletin 767-30A0038, Revision 2, dated February 23, 2006.

Terminating Action

(h) At the applicable time specified in Table 2 of this AD: Replace the heater tapes on the potable water supply and gray water drain lines of the forward and aft cargo compartments, as applicable, with Adel Wiggins ribbon heaters, in accordance with Accomplishment Instructions of Boeing Service Bulletin 767-30A0038, Revision 2, dated February 23, 2006. Accomplishing the replacement ends the requirements of paragraph (f) of this AD.

Table 2.—Compliance Time for Replacement
For airplanes on which the heater tape— | Compliance time
(1) Has not been replaced in accordance with Boeing Service Bulletin 767-30A0037, dated May 28, 2002; or Revision 1, dated July 19, 2002; as of the effective date of this AD | Within 42 months since the date of issuance of the original standard airworthiness certificate or the date of issuance of the original standard airworthiness certificate of the date of issuance of the original export certificate of airworthiness, or within 24 months after the effective date of this AD, whichever occurs later.
(2) Has been replaced in accordance with Boeing Service Bulletin 767-30A0037, dated May 28, 2002; or Revision 1, dated July 19, 2002; as of the effective date of this AD | Within 42 months after replacing the heater tape, or within 24 months after the effective date of this AD, whichever occurs later.

Credit for Earlier Revisions of Service Bulletin

(i) For airplanes having variable number (VN) VN471 and VN472: Actions done in the forward cargo compartment before the effective date of this AD in accordance with Boeing Alert Service Bulletin 767-30A0038, dated December 16, 2004; or Revision 1, dated September 29, 2005; are acceptable for compliance with the corresponding requirements of this AD for the forward cargo compartment only.

(j) For airplanes having VN VS704 through VS707 inclusive: Actions done in the forward cargo compartment before the effective date of this AD in accordance with Boeing Alert Service Bulletin 767-30A0038, Revision 1, dated September 29, 2005, are acceptable for compliance with the corresponding requirements of this AD for the forward cargo compartment only.

(k) For airplanes other than those identified in paragraphs (i) and (j) of this AD: Actions done in the forward and aft cargo compartments, as applicable, before the effective date of this AD in accordance with Boeing Alert Service Bulletin 767-30A0038, dated December 16, 2004; or Revision 1, dated September 29, 2005; are acceptable for compliance with the corresponding requirements of this AD.

Alternative Methods of Compliance (AMOCs)

(l)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on June 20, 2006.
Kalene C. Yanamura,
Acting Manager, Transport Airplane Directorate, Aircraft Certification Service.

[FR Doc. 06-5874 Filed 6-29-06; 8:45 am]

BILLING CODE 4910-13-P